U.S.-CHINA ECONOMIC AND SECURITY REVIEW COMMISSION

Notice of Open Public Hearing

AGENCY: U.S.-China Economic and Security Review Commission.

ACTION: Notice of open public hearing—March 7, 2013, Washington, DC.

SUMMARY: Notice is hereby given of the following hearing of the U.S.-China Economic and Security Review Commission.

Name: William A. Reinsch, Chairman of the U.S.-China Economic and Security Review Commission. The Commission is mandated by Congress to investigate, assess, and report to Congress annually on “the national security implications of the economic relationship between the United States and the People's Republic of China.” Pursuant to this mandate, the Commission will hold a public hearing in Washington, DC on March 7, 2013, “Corporate Accountability, Access to Credit, and Access to Markets in China's Financial System—the Rules and Their Ramifications for U.S. Investors.”

Background: This is the second public hearing the Commission will hold during its 2013 report cycle to collect input from academic, industry, and government experts on national security implications of the U.S. bilateral trade and economic relationship with China. The economic and political drivers, rules and norms that govern China's financial markets diverge—sometimes sharply—from those that define the system in the United States, presenting unique challenges for U.S. investors and the enforcement agencies charged with protecting their interests. While investors have been eager to buy stock in high yield U.S.-listed Chinese companies accounting and financial management problems have created concern about the adequacy of protection of U.S. investors interests. Companies traded in U.S. Capital markets are required to disclose details of business strategies, financial records and operations. With SEC and U.S. exchanges halting trading of dozens of Chinese companies due to accounting practices and concerns about fraud, the Commission will examine U.S. and Chinese corporate governance and accountability rules, regulations and enforcement mechanisms. The Commission will also consider the availability of financial services, access to credit, and market opportunities for both Chinese and American private sector enterprises. With U.S. firms eager to meet growing demand for their financial services, witnesses will testify regarding access, opportunities and challenges in the Chinese marketplace.

The hearing will be co-chaired by Commissioners Robin Cleveland and Carte Goodwin. Any interested party may file a written statement by March 7, 2013, by mailing to the contact below. A portion of each panel will include a question and answer period between the Commissioners and the witnesses.

Location, Date and Time: 562 Dirksen Senate Office Building. Thursday, March 7, 2013, 9:00 a.m.-3:30 p.m. Eastern Time. A detailed agenda for the hearing is posted to the Commission's Web site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington, DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: February 28, 2013.
Michael Danis,
Executive Director, U.S.-China Economic and Security Review Commission.

[FR Doc. 2013-05013 Filed 3-4-13; 8:45 am]

BILLING CODE 1137-00-P